DEPARTMENT OF EDUCATION

Accrediting Agency Currently Undergoing Review During the Period of Recognition by the U.S. Secretary of Education

AGENCY: U.S. Department of Education, Accreditation Group, Office of Postsecondary Education.

ACTION: Call for written third-party comments.

SUMMARY: This notice provides information to members of the public on submitting written comments for accrediting agencies currently undergoing review during the period of recognition by the U.S. Secretary of Education.

DATES: Comments must be received on or before October 31, 2025.

FOR FURTHER INFORMATION CONTACT: Elizabeth Daggett, Director, Accreditation Group, Office of Postsecondary Education, U.S. Department of Education, 400 Maryland Avenue SW, Room 5C104, Washington, DC 20202, telephone: (202) 453-7615, or email: elizabeth.daggett@ed.gov.

SUPPLEMENTARY INFORMATION: This request for written third-party comments concerning the performance of accrediting agencies during their period of recognition is pursuant to 34 Code of Federal Regulations (CFR) § 602.33(c)(4)(iii)(B).

Additional information for this accrediting agency will be added to the agenda for the Winter 2026 National Advisory Committee on Institutional Quality and Integrity (NACIQI) meeting, notice of which was published November 6, 2024 (89 FRN 88046). The meeting date and location have not been determined but will be announced in a later Federal Register notice.

Agencies Under Review and Evaluation:

The Department requests written comments from the public on the following accrediting agency, which is currently undergoing review and evaluation during their period of recognition by the Department's Office of Postsecondary Education Accreditation Group, in accordance with the procedures set forth in 34 CFR 602.33. Inquiries under 34 Code of Federal Regulations (CFR) § 602.33: Midwifery Education Accreditation Council (MEAC).

a. 34 CFR 602.33 review initiated by inquiry letter dated March 19, 2025 (letter available at https://www.ed.gov/laws-and-policy/higher-education-laws-and-policy/college-accreditation/accreditation-postsecondary-education-institutions). The review has identified noncompliance with the Criteria in 34 CFR 602.15(a)(1).

Submission of Written Comments Regarding a Specific Accrediting Agency Under Review:

Written comments about the recognition of a specific accrediting agency must be received on or before October 31, 2025, in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency must relate to the agency's compliance with the Criteria identified in the inquiry finding specifically listed above.

The Criteria are available at https://www.ecfr.gov/current/title-34/subtitle-B/chapter-VI/part-602?toc=1.

Only written material submitted by the deadline to the email address listed in this notice, and in accordance with these instructions, become part of the official record concerning agencies scheduled for review and are considered by the Department and NACIQI in their deliberations.

A later Federal Register notice will describe how to register to provide oral comments at the Winter 2026 meeting regarding the recognition of a specific accrediting agency or State approval agency.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

(Authority: 20 U.S.C. 1011c.)

Signing Authority

This document of the U.S. Department of Education was signed on September 24, 2025, by Christopher J. McCaghren, ED.D., Acting Assistant Secretary Office of Postsecondary Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Tracey St. Pierre,
Director, Office of Executive Secretariat, Office of the Secretary, U.S. Department of Education.

[FR Doc. 2025-18865 Filed 9-26-25; 8:45 am]

BILLING CODE 4000-01-P